COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds services to the Procurement List that will be provided by nonprofit agencies employing persons who are blind or have other severe disabilities.

DATES: Effective July 3, 2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On October 30, 2015 (80 FR 66880) and April 29, 2016 (81 FR 25652), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 8501-8506) in connection with the services proposed for addition to the Procurement List.

End of Certification

Accordingly, the following services are added to the Procurement List:

Services:

Service Type: Laundry Service.

Mandatory for: Virginia Army National Guard, Central Issue Facility, Defense Supply Center Richmond, Warehouse 15, Richmond, VA.

Mandatory Source(s) of Supply: Rappahannock Goodwill Industries, Inc., Fredericksburg, VA.

Contracting Activity: Dept of the Army, W7N5 USPFO ACTIVITY VA ARNG, Blackstone, VA.

Service Type: Furniture Design, Configuration and Installation Service.

Mandatory for: US Department of the Interior, Stewart Lee Udall, Department of the Interior Building, 1849 C St. & South Interior Building, 1951 Constitution Ave. NW., Washington, DC.

Mandatory Source(s) of Supply: Industries for the Blind, Inc., West Allis, WI, Contracting Activity: Office of Policy, Management, and Budget, NBC Acquisition Services Directorate, Herndon, VA.

Barry S. Lineback,
Director, Business Operations.

[FR Doc. 2016-13127 Filed 6-2-16; 8:45 am]

BILLING CODE 6353-01-P